DEPARTMENT OF ENERGY

Federal Energy Regulatory Commission

[Project No. 2232-855]

Duke Energy Carolinas, LLC; Notice of Availability of Environmental Assessment

In accordance with the National Environmental Policy Act of 1969 and the Federal Energy Regulatory Commission's (Commission) regulations, 18 CFR part 380, Commission staff reviewed Duke Energy Carolinas, LLC's (Duke Energy) application for an amendment of license to implement the Mountain Island embankment seismic stability improvement project at the Mountain Island development of the Catawba-Wateree Project No. 2232 and has prepared an Environmental Assessment (EA) for the amendment. Duke Energy proposes to construct a counterweight stability berm on the downstream side of the earthen embankment at the Mountain Island development and obtain the material for the berm from an on-site borrow area. The project consists of 11 developments and is located on the Catawba and Wateree rivers in Burke, McDowell, Caldwell, Catawba, Alexander, Iredell, Mecklenburg, Lincoln and Gaston counties, North Carolina, and York, Lancaster, Chester, Fairfield, and Kershaw counties, South Carolina.

The EA contains Commission staff's analysis of the potential environmental impacts of the proposed action and concludes that amending the license, with appropriate environmental protective measures, would not constitute a major Federal action that would significantly affect the quality of the human environment.

The Commission provides all interested persons with an opportunity to view and/or print the EA via the internet through the Commission's Home Page (http://www.ferc.gov/), using the “eLibrary” link. Enter the docket number (P-2232) into the docket number field to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

Any comments should be filed by February 23, 2024.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, you may submit a paper copy. Submissions sent via the U.S. Postal Service must be addressed to: Debbie-Anne Reese, Acting Secretary, Federal Energy Regulatory Commission, 888 First Street NE, Room 1A, Washington, DC 20426. Submissions sent via any other carrier must be addressed to: Debbie-Anne Reese, Acting Secretary, Federal Energy Regulatory Commission, 12225 Wilkins Avenue, Rockville, Maryland 20852. The first page of any filing should include docket number P-2232-855.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

For further information, contact Steven Sachs at Steven.Sachs@ferc.gov or 202-502-8666.

Dated: January 24, 2024.
Debbie-Anne A. Reese,
Acting Secretary.

[FR Doc. 2024-01838 Filed 1-30-24; 8:45 am]

BILLING CODE 6717-01-P